DEPARTMENT OF COMMERCE

International Trade Administration

[A-570-918]

Notice of Antidumping Duty Order: Steel Wire Garment Hangers from the People's Republic of China

AGENCY: Import Administration, International Trade Administration, Department of Commerce.

SUMMARY: Based on affirmative final determinations by the Department of Commerce (the “Department”) and the International Trade Commission (“ITC”), the Department is issuing an antidumping duty order on steel wire garment hangers from the People's Republic of China (“PRC”). On September 29, 2008, the ITC notified the Department of its affirmative determination of material injury to a U.S. industry. See Steel Wire Garment Hangers from China (Investigation No. 731-TA-1123 (Final), USITC Publication 4034, (September 2008)

EFFECTIVE DATE: October 6, 2008.

FOR FURTHER INFORMATION CONTACT: Julia Hancock, AD/CVD Operations, Office 9, Import Administration, International Trade Administration, U.S. Department of Commerce, 14th Street and Constitution Avenue NW, Washington, DC 20230; telephone: (202) 482-1394.

SUPPLEMENTARY INFORMATION:

Background

In accordance with sections 735(d) and 777(i)(1) of the Tariff Act of 1930, as amended, (“the Act”), the Department published the final determination and amended final determination of sales at less than fair value (“LTFV”) in the antidumping investigation of steel wire garment hangers from the People's Republic of China (“PRC”). See Steel Wire Garment Hangers from the People's Republic of China: Final Determination of Sales at Less Than Fair Value, 73 FR 47587 (August 14, 2008) (“Final Determination”); Steel Wire Garment Hangers from the People's Republic of China: Amended Final Determination of Sales at Less Than Fair Value, 73 FR 53188 (September 15, 2008) (“Amended Final Determination”).

Scope of the Order

The merchandise that is subject to this investigation is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of this investigation are wooden, plastic, and other garment hangers that are not made of steel wire. The products subject to this investigation are currently classified under HTSUS subheading 7326.20.0020 and 7323.99.9060.

Although the HTSUS subheading is provided for convenience and customs purposes, the written description of the merchandise is dispositive.

Antidumping Duty Order

On September 29, 2008, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of certain steel nails from the PRC. These antidumping duties will be assessed on all unliquidated entries of steel wire garment hangers from the PRC entered, or withdrawn from the warehouse, for consumption on or after March 25, 2008, the date on which the Department published its Preliminary Determination. See Preliminary Determination of Sales at Less Than Fair Value: Steel Wire Garment Hangers From the People's Republic of China, 73 FR 15726 (March 25, 2008) (“Preliminary Determination”).

Effective on the date of publication of the ITC's final affirmative injury determination, CBP will require, at the same time as importers would normally deposit estimated duties on this merchandise, a cash deposit equal to the estimated weighted-average antidumping duty margins as listed below. See section 735(c)(3) of the Act. The “PRC-wide” rate applies to all exporters of subject merchandise not specifically listed. The weighted-average dumping margins are as follows:

Steel Wire Garment Hangers from the PRC - Amended Dumping Margins
Exporter & Producer | Weighted-Average Deposit Rate
Shanghai Wells Hanger Co., Ltd. | 15.83 %%
Shaoxing Metal Companies:
Shaoxing Gangyuan Metal Manufactured Co., Ltd. | 94.78 %%
Shaoxing Andrew Metal Manufactured Co., Ltd.
Shaoxing Tongzhou Metal Manufactured Co., Ltd.
Company “X”
Jiangyin Hongji Metal Products Co., Ltd | 55.31 %%
Shaoxing Meideli Metal Hanger Co., Ltd. | 55.31 %%
Shaoxing Dingli Metal Clotheshorse Co., Ltd. | 55.31 %%
Shaoxing Liangbao Metal Manufactured Co. Ltd. | 55.31 %%
Shaoxing Zhongbao Metal Manufactured Co. Ltd. | 55.31 %%
Shangyu Baoxiang Metal Manufactured Co. Ltd. | 55.31 %%
Zhejiang Lucky Cloud Hanger Co., Ltd. | 55.31 %%
Pu Jiang County Command Metal Products Co., Ltd. | 55.31 %%
Shaoxing Shunji Metal Clotheshorse Co., Ltd. | 55.31 %%
Ningbo Dasheng Hanger Ind. Co., Ltd. | 55.31 %%
Jiaxing Boyi Medical Device Co., Ltd. | 55.31 %%
Yiwu Ao-Si Metal Products Co., Ltd. | 55.31 %%
Shaoxing Guochao Metallic Products Co., Ltd. | 55.31 %%
PRC-Wide Rate¹ | 187.25 %%
¹ The PRC-Wide entity includes Tianjin Hongtong Metal Manufacture Co. Ltd.

This notice constitutes the antidumping duty order with respect to steel wire garment hangers from the PRC pursuant to section 736(a) of the Act. Interested parties may contact the Department's Central Records Unit, Room 1117 of the main Commerce building, for copies of an updated list of antidumping duty orders currently in effect.

This order is published in accordance with section 736(a) of the Act and 19 CFR 351.211.

Dated: September 29, 2008.
David M. Spooner,
Assistant Secretary for Import Administration.

[FR Doc. E8-23569 Filed 10-3-08; 8:45 am]

BILLING CODE 3510-DS-S